DEPARTMENT OF HOUSING AND URBAN DEVELOPMENT

[Docket No. FR-7004-N-03]

60-Day Notice of Proposed Information; Record of Employee Interview

AGENCY: Office of Davis Bacon Labor Standards and Enforcement, FPM, HUD.

ACTION: Notice.

SUMMARY: HUD is seeking approval for the proposed information collection requirement described below and will be submitting to the Office of Management and Budget (OMB) for review, as required by the Paperwork Reduction Act. The Department is soliciting public comments on the subject proposal.

DATES: Comments Due Date: February 19, 2019.

ADDRESSES: Interested persons are invited to submit comments regarding this proposal. Comments should refer to the proposal by name and/or OMB Control Number and should be sent to: Saundra A. Green, Administrative Officer, Office of Field Policy and Management, Department of Housing and Urban Development, 451 7th Street SW, Washington, DC 20410, Room 7108 or the number (202-402-5537) this is not a toll free number or email at Saundra.A.Green@hud.gov or a copy of the proposed forms or other available information. Persons with hearing or speech impairments may access this number though TTY by calling the toll-free Federal Relay Service at (800) 877-8339.

FOR FURTHER INFORMATION CONTACT: Colette Pollards, Reports Management Officer, QDAM, Department of Housing and Urban Development, 451 7th Street SW, Washington, DC 20410, telephone (202) 402-3400 (this is not a toll free number) or email Colette Pollard at Colette.Pollard@hud.gov for copies of the proposed forms and other available information. Persons with hearing or speech impairments may access this number though TTY by calling the toll-free Federal Relay Service at (800) 877-8339.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Record of Employee Interview.

OMB Control Number, if applicable: 2501-0009.

Description of the need for the information and proposed use: The information is used by HUD and agencies administering HUD programs to collect information from laborers and mechanics employed on projects subjected to the Federal Labor Standards provisions. The information collected is compared to information submitted by the respective employer on certified payroll reports. The comparison tests the accuracy of the employer's payroll data and may disclose violations.

Generally, these activities are geared to the respondent's benefit that is to determine whether the respondent was underpaid and to ensure the payment of wage restitution to the respondent.

Agency form numbers, if applicable: HUD-11.

Estimation of the total numbers of hours needed to prepare the information collection including number of respondents, frequency of response, and hours of response:

Information collection | Estimated number of respondents | Frequency of response | Total number of responses | Total burden hours per response | Total burden hour ann | Hourly cost per response | Total cost
HUD-11 Record of Employee Interview OR HUD-11SP | 20,000 | 1 | 20,000 | .25 | 5,000 | $36.24 | $181,200
HUD-11 Record of Employee Interview OR HUD-11SP | 20,000 | 1 | 20,000 | .16 | 3,200 | 36.24 | 115,968
Total | 20,000 | 1 | 20,000 | .41 | 8,200 | 36.24 | 297,168

Authority: The Paperwork Reduction Act of 1995, 44 U.S.C., Chapter 35, as amended.

Dated: December 4, 2018.
Pamela Glekas Spring,
National Director, Office of Davis-Bacon Labor Standards and Enforcement.

[FR Doc. 2018-27550 Filed 12-19-18; 8:45 am]

BILLING CODE 4201-67-P